DEPARTMENT OF EDUCATION

Office of Special Education and Rehabilitative Services; Notice Inviting Applications for New Awards for Fiscal Year (FY) 2001

AGENCY: Department of Education.

ACTION: Correction.

SUMMARY: On August 29, 2000, a notice inviting applications for new awards under the Office of Special Education and Rehabilitative Services; Grant Applications under the Special Education—Personnel Preparation to Improve Services and Results for Children with Disabilities Program was published in the Federal Register (65 FR 52630). Under the Preparation of Personnel in Minority Institutions (84.325E) priority on page 52634, in column 3, paragraph (f), second sentence, we inadvertently listed “65 percent”. This notice will correct that sentence to read “Sufficient justification for proposing less than 55 percent of the budget for student support would include activities such as program development, expansion of a program, or the addition of a new emphasis area.

FOR FURTHER INFORMATION CONTACT: For further information on this notice contact Debra Sturdivant, U.S. Department of Education, 600 Independence Avenue, SW, room 3317, Switzer Building, Washington, D.C. 20202-2641. FAX: (202) 205-8717 (FAX is the preferred method for requesting information). Telephone: (202) 205-8038. Internet: Debra_Sturdivant@ed.gov

If you use a TDD you may call the Federal Information Relay Service (FIRS) at 1-800-877-8339.

Electronic Access to This Document

You may view this document, as well as all other Department of Education documents published in the Federal Register, in text or portable document format (PDF) on the internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC., area at (202) 512-1530.

Note: The official version of this document is the document published in the Federal Register. Free Internet access to the official edition of the Federal Register and the Code of Federal Regulations is available on GPO Access at: http://www.access.gpo/nara/index.html

Program Authority: 20 U.S.C. 1482.

Dated: September 5, 2000.
Curtis L. Richards,
Acting Assistant Secretary for Special Education and Rehabilitative Services.

[FR Doc. 00-23191 Filed 9-8-00; 8:45 am]

BILLING CODE 4000-01-P